DEPARTMENT OF TRANSPORTATION

Federal Aviation Administration

DEPARTMENT OF THE INTERIOR

National Park Service

List of Units of the National Park System Exempt From the Provisions of the National Parks Air Tour Management Act

AGENCIES: Federal Aviation Administration, Transportation; National Park Service, Interior.

ACTION: List of Exempt Parks.

SUMMARY: The National Parks Air Tour Management Act (NPATMA) requires the Federal Aviation Administration (FAA) and National Park Service (NPS) to develop an air tour management plan for units of the national park system where an operator has requested authority to provide commercial air tours. The FAA Modernization and Reform Act of 2012 amended various provisions of NPATMA. One provision exempted national park units with 50 or fewer annual flights from the provisions of NPATMA and requires FAA and NPS to jointly publish a list of exempt parks. This notice includes an initial list of parks that are exempt from the provisions of the NPATMA.

FOR FURTHER INFORMATION CONTACT: Barry Brayer—Mailing address: Federal Aviation Administration, P.O. Box 92007, Los Angeles, California 90009-2007. Telephone: (310) 725-3800. Email address: Barry.Brayer@faa.gov. Vicki McCusker—Mailing address: Natural Sounds and Night Skies Division, National Park Service, 1201 Oakridge Drive, Suite 100-31, Fort Collins, CO 80525. Telephone: (970) 267-2117. Email address: Vicki_McCusker@nps.gov.

SUPPLEMENTARY INFORMATION:

I. Authority for New Requirements

1. NPATMA (Pub. L. 106-181, codified at 49 U.S.C. 40128) requires the FAA and NPS to develop an air tour management plan for units of the national park system where an operator has requested authority to provide commercial air tours. The FAA Modernization and Reform Act of 2012 (2012 Act) amended various provisions of NPATMA.

2. This Federal Register Notice addresses the following 2012 Act amendment provisions:

a. Exempt national park units that have 50 or fewer commercial air tour operations each year from the requirements of NPATMA.

b. Authorize NPS to withdraw the exemption if necessary to protect resources and values or visitor use and enjoyment.

c. Require FAA and NPS to publish a list each year of national parks covered by the exemption.

II. Initial List of Exempt Parks

1. This list is based on interim operating authority (IOA) data available to FAA and NPS. At these parks, the current combined IOA of all air tour operators is 50 operations or less annually. Exempt parks are as follows:

Big Bend National Park, TX

Black Canyon of the Gunnison National Park, CO

Capulin Volcano National Monument, NM

Carlsbad Caverns National Park, NM

Casa Grande Ruins National Monument, AZ

Coronado National Memorial, AZ

Devils Tower National Monument, WY

Dinosaur National Monument, UT/CO

El Malpais National Monument, NM

El Morro National Monument, NM

Fort Bowie National Historic Site, AZ

Fort Davis National Historic Site, TX

Fort Union National Monument, NM

Gila Cliff Dwellings National Monument, NM

Great Sand Dunes National Park and Preserve, CO

Guadalupe Mountains National Park, NM

Hohokam Pima National Monument, AZ

Hubbell Trading Post National Historic Site, AZ

Kings Canyon National Park, CA

Mojave National Preserve, CA

Organ Pipe Cactus National Monument, AZ

Pecos National Historical Park, NM

Petrified Forest National Park, AZ

Petroglyph National Monument, NM

Pipe Spring National Monument, AZ

Rio Grande Wild and Scenic River, TX

Saguaro National Park, AZ

Salinas Pueblo Missions National Monument, NM

San Juan Island National Historical Park, WA

Sequoia National Park, CA

Tumacacori National Historic Park, AZ

Walnut Canyon National Monument, AZ

Wupatki National Monument, AZ

2. The list of exempt parks published in this notice is based on IOA operational numbers only, since this is the only data currently available to FAA and NPS on the number of air tour operations at parks. NPS is authorized to withdraw a park from the exempt list if NPS determines that an air tour management plan or a voluntary agreement is necessary to protect park resources and values or park visitor use and enjoyment. Pursuant to the 2012 Act, the NPS shall inform the FAA in writing of each determination to withdraw an exemption.

III. List of Exempt Parks for Future Years

The FAA and NPS will publish a list of exempt parks annually. The list could change from year to year since parks may be added to or removed from the exempt list based on the previous year's number of annual operations or if NPS withdraws an exempted park. In order to continue to be exempt, a park must have 50 or fewer annual commercial air tour operations in any given calendar year. At parks that lose exempt status, operators will return to IOA requirements until an air tour management plan or a voluntary agreement has been established.

Issued in Hawthorne, CA, on November 1, 2012.
William C. Withycombe,
Regional Administrator, Western-Pacific Region, Federal Aviation Administration.
Issued in Washington, DC, on November 8, 2012.
Herbert C. Frost,
Associate Director, Natural Resource Stewardship and Science, National Park Service.

[FR Doc. 2012-30561 Filed 12-18-12; 8:45 am]

BILLING CODE 4910-13-P